DEPARTMENT OF TRANSPORTATION

Federal Aviation Administration

Notice of Availability of the Final Supplemental Environmental Assessment (SEA) and Amended Finding of No Significant Impact/Record of Decision (FONSI/ROD) for the Runway 13/31 Shift/Extension and Associated Improvements Project for the Detroit Lakes-Becker County Airport (DTL) in Detroit Lakes, MN

AGENCY: Federal Aviation Administration (FAA), DOT.

ACTION: Notice.

SUMMARY: The FAA is issuing this notice to advise the public that the FAA has prepared and approved (September 6, 2017) an Amended FONSI/ROD based on the Final SEA for the DTL Runway 13/31 Shift/Extension and Associated Improvements Project. The Final SEA was prepared in accordance with the National Environmental Policy Act (NEPA) of 1969, as amended, FAA Orders 1050.1F, “Environmental Impacts: Policies and Procedures” and 5050.4B, “NEPA Implementing Instructions for Airport Actions”.

DATES: This notice is applicable November 21, 2017.

FOR FURTHER INFORMATION CONTACT: Mr. Josh Fitzpatrick, Environmental Protection Specialist, FAA Dakota-Minnesota Airports District Office (ADO), 6020 28th Avenue South, Suite 102, Minneapolis, Minnesota, 55450. Telephone number is (612) 253-4639. Copies of the Amended FONSI/ROD and/or Final SEA are available upon written request by contacting Mr. Josh Fitzpatrick through the contact information above.

SUPPLEMENTARY INFORMATION: The Final SEA evaluated the DTL Runway 13/31 Shift/Extension and Associated Improvements Project. Due to airfield deficiencies identified by the FAA and Minnesota Department of Transportation (MnDOT) at DTL, the purpose of the proposed action is to provide a usable, reliable, and safe primary runway at an airport in or near the City of Detroit Lakes that is compliant with FAA and MnDOT design standards, guidance, and minimum system objectives for key airports.

During the design phase, it was discovered that several additional project components were not evaluated by the 2016 FEA and FONSI/ROD, therefore, the FAA determined that the proposed action needs to be updated with a SEA to include project components not explicitly considered. The additional project components as part of the proposed action include: 1. Existing utilities impacted by the project. 2. Visual NAVAIDS (wind cone and segmented circle) impacted by the project. 3. Buildings to be removed in conjunction with the project. 4. Relocation of Highway 59 access. 5. Effluent discharge from upgraded wastewater treatment facility.

The FAA prepared the Final Federal SEA, pursuant to the requirements of the NEPA. The Final SEA identified and evaluated all reasonable alternatives. After careful analysis, the City of Detroit Lakes selected the following alternatives as the preferred alternative: 1. Alternative AU2, Runway 13 Overhead Power Line Removal/Relocation. 2. Alternative AU3, Runway 31 Overhead Power Line Removal/Relocation. 3. Alternative UU1, Runway 31 Fiber Optic Communications Line-No Action. 4. Alternative UU5, Runway 31 UE Power Line Relocation-Relocate Line West in Longview Driver Right of Way. 5. Alternative WC2, Relocate Wind Cone and Segmented Circle. 6. Alternative BD2, Remove Buildings on Tracts 13 and 19. 7. Alternative HA2: Relocate Highway 59 Access to the Northeast. 8. Alternative ED2, Effluent Discharge Pipe Installed in Runway 31 Runway Protection Zone (RPZ). These alternatives satisfy the purpose and need while minimizing impacts.

The evaluation of these components in the preferred alternative conducted under the SEA has not resulted in additional or an increase in impacts associated with the proposed action.

Based on the analysis in the Final SEA, the FAA has determined that the preferred alternative will not result in significant impacts to resources identified in accordance with FAA Orders 1050.1F and 5054.4B. Therefore, an environmental impact statement will not be prepared.

Issued in Minneapolis, Minnesota on October 16, 2017.
Andy Peek,
Manager, Dakota-Minnesota Airports District Office, FAA, Great Lakes Region.

[FR Doc. 2017-24741 Filed 11-20-17; 8:45 am]

BILLING CODE 4910-13-P